DEPARTMENT OF COMMERCE

National Oceanic and Atmospheric Administration

RIN 0648-XD402

Presidential Task Force on Combating Illegal, Unreported and Unregulated Fishing and Seafood Fraud

AGENCY: National Marine Fisheries Service (NMFS), National Oceanic and Atmospheric Administration (NOAA), Commerce.

ACTION: Notice of public meetings; request for comments.

SUMMARY: On June 17, 2014, the White House released a Presidential Memorandum entitled “Establishing a Comprehensive Framework to Combat Illegal, Unreported, and Unregulated Fishing and Seafood Fraud.” Among other actions, the Memorandum established a Presidential Task Force on Combating Illegal, Unreported, and Unregulated Fishing and Seafood Fraud (Task Force), co-chaired by the Departments of State and Commerce and made up of a broad range of other federal agencies. The Task Force is directed to report to the President within 180 days with “recommendations for the implementation of a comprehensive framework of integrated programs to combat IUU fishing and seafood fraud that emphasizes areas of greatest need.” The public meetings and request for comments initiates a public engagement process aimed at gaining broad input and expertise from key stakeholders and interest groups to inform and advise the Task Force in developing recommendations in compliance with the Memorandum.

DATES: Comments must be received by September 2, 2014. The public meetings will be held in August. For specific dates, times, format or location, see “Public Meetings” under SUPPLEMENTARY INFORMATION.

ADDRESSES: You may submit comments on this document, identified by NOAA-NMFS-0214-0090, by any of the following methods:

• Electronic Submission: Submit all electronic public comments via the Federal e-Rulemaking Portal. Go to www.regulations.gov/#!docketDetail;D=NOAA-NMFS-2014-0090, click the “Comment Now!” icon, complete the required fields, and enter or attach your comments.

Mail: Submit written comments to Laurel Bryant, 1315 East-West Hwy., Rm. 14556, Silver Spring, MD 20910.

Instructions: Comments sent by any other method, to any other address or individual, or received after the end of the comment period, may not be considered by the Federal Task Force. All comments received are a part of the public record and will generally be posted for public viewing on www.regulations.gov without change. All personal identifying information (e.g., name, address, etc.), confidential business information, or otherwise sensitive information submitted voluntarily by the sender will be publicly accessible. The Task Force will accept anonymous comments (enter “N/A” in the required fields if you wish to remain anonymous). Attachments to electronic comments will be accepted in Microsoft Word, Excel, or Adobe PDF file formats only.

FOR FURTHER INFORMATION CONTACT: Laurel Bryant, Chief for External Affairs, Office of Communications, National Marine Fisheries Service, 301-427-8032.

SUPPLEMENTARY INFORMATION:

I. Background

The United States is a global leader in sustainable seafood. Over the course of the last 6 years, the United States has largely ended overfishing in federally managed waters and successfully rebuilt a record number of overfished stocks, with both overfishing and overfished fish stocks at all-time lows. This level of effective management and enforcement of domestic fishing regulations has supported near record highs in both landings and revenue for our domestic fishing industries. As a result, the United States scheme of science-based fisheries management is recognized internationally as a model for other countries as they work to end overfishing and implement sustainable practices.

However, fisheries are a global resource, and achieving sustainable fisheries management requires strong international commitment. One of the biggest global threats to sustainable fisheries is illegal, unreported, and unregulated (IUU) fishing. Impacts of IUU fishing undermine the environmental and economic sustainability of fisheries both domestically and abroad. By circumventing conservation and management measures and cutting or avoiding the operational costs associated with sustainable fishing practices and harvesting levels, entities engaged in IUU fishing undermine the sustainability of fish stocks and the broader ecosystem, and create an unfair advantage in the marketplace over legitimate fishing operations and legally caught seafood. Global losses attributable to IUU fishing have been estimated to be $10-23 billion annually. And while it is difficult to know the extent of seafood fraud, some surveys have found notable levels of mislabeling in retail operations across the U.S. The occurrence of seafood fraud through species substitution threatens consumer confidence, serving to further undermine the reputation and market competitiveness of our domestic seafood industry.

It is in the national interest of the United States to promote a framework that supports sustainable fishing practices and combats the sale of IUU fishing products and seafood fraud. To achieve these objectives, the United States will need to enhance the tools it has available to combat IUU fishing and seafood fraud. The Task Force has been established to achieve these objectives. These public meetings initiate the process for informing and advising the Task Force on identifying the priorities and opportunities to accomplish these objectives. The meetings are intended as listening sessions for the Task Force to hear from and engage with the public, and the communities of stakeholders and interest groups involved with these issues. For more information related to the Task Force and these issues, go to: http://www.nmfs.noaa.gov/ia/iuu/iuu_overview.html.

II. Topics for Comment and Discussion

Comment is particularly sought in response to the following questions:

1. How can the government better coordinate its efforts across the full suite of activities related to the seafood supply chain?

2. What existing authorities and tools should be enhanced to combat IUU fishing and seafood fraud?

3. What are the key opportunities at the international level to address these issues through the regional fishery management organizations and bilateral efforts, such as technical assistance and capacity building?

4. What existing authorities should be better coordinated or streamlined to strengthen and harmonize enforcement provisions of U.S. statutes for implementing international fisheries agreements?

5. What existing authorities should be better coordinated or streamlined to strengthen and harmonize efforts between agencies, including Federal, State and local?

6. What opportunities are there, whether existing or new, to work with industry and other partners, including foreign partners, to develop and implement measures such as traceability programs to combat IUU fishing and seafood fraud?

7. How prevalent are mislabeling and species substitution within the domestic and foreign seafood supply in general? Where in the seafood supply chain is species substitution most likely to occur, and what role or actions can the federal government provide or enhance to address it?

8. To what extent is the comingling of seafood products from different origins an issue? Where along the supply chain does it occur?

9. What specific actions need to be taken to improve the transparency and traceability of seafood in the supply chain?

10. What are the actions and issues the Task Force should prioritize in developing its recommendations for addressing IUU fishing? What about seafood fraud?

11. What other topics related to IUU fishing and seafood fraud should the Task Force be aware of in developing and prioritizing recommendations?

III. Public Meetings

• August 13, 2014, 3-5 p.m. Eastern Daylight Time—Webinar/Conference Call, Conference Call Number: 888-324-0793, passcode: IUU Fishing.

• August 20, 2014, 3-5 p.m. Pacific Daylight Time—In-person meeting, Mayflower Park Hotel, 405 Olive Way, Seattle, Washington.

• August 27, 2014, 3-5 p.m. Eastern Daylight Time—Webinar/Conference Call, Conference Call Number: 888-324-0793, passcode: IUU Fishing.

• August 28, 2014, 1-3 p.m. Eastern Daylight Time—In-person meeting, Washington Court Hotel on Capitol Hill, 525 New Jersey Avenue NW., Washington, DC 20001.

Special Accommodations

Requests for sign language interpretation or other auxiliary aids should be directed to Samantha (Sam) Guidon, 301-427-8532 or email Samantha.guidon@noaa.gov at least 5 days prior to the meeting date.

Dated: July 28, 2014.
Samuel D. Rauch III,
Deputy Assistant Administrator for Regulatory Programs, National Marine Fisheries Service.

[FR Doc. 2014-18024 Filed 7-29-14; 11:15 am]

BILLING CODE 3510-22-P